DEPARTMENT OF ENERGY

Federal Energy Regulatory Commission

[Docket Nos. CP15-554-000, CP15-554-001, CP15-555-000, CP15-556-000]

Atlantic Coast Pipeline, LLC, Dominion Energy Transmission, Inc., Piedmont Natural Gas Company, Inc.; Notice of Availability of the Final Environmental Impact Statement for the Proposed Atlantic Coast Pipeline and Supply Header Project

The staff of the Federal Energy Regulatory Commission (FERC or Commission) has prepared a final environmental impact statement (EIS) for the Atlantic Coast Pipeline (ACP) and Supply Header Project (SHP) as proposed by Atlantic Coast Pipeline, LLC (Atlantic) and Dominion Energy Transmission, Inc. (DETI), respectively, in the above-referenced dockets. Atlantic and DETI request authorization to construct and operate a total of 642.0 miles of natural gas transmission pipeline and associated facilities, and three new natural gas-fired compressor stations; and to modify four existing compressor stations. The projects would provide about 1.44 billion cubic feet per day of natural gas to electric generation, distribution, and end use markets in Virginia and North Carolina. In addition, Atlantic and Piedmont Natural Gas. Co., Inc. (Piedmont) request authorization to allow Atlantic to lease capacity on Piedmont's existing pipeline distribution system in North Carolina for use by Atlantic (Capacity Lease Proposal). No construction or facility modifications are proposed with the Capacity Lease.

The final EIS assesses the potential environmental effects of the construction and operation of the projects in accordance with the requirements of the National Environmental Policy Act (NEPA). The FERC staff concludes that approval of the projects would have some adverse and significant environmental impacts; however, the majority of impacts would be reduced to less-than-significant levels with the implementation of the Atlantic's and DETI's proposed mitigation and the additional measures recommended in the EIS.

The U.S. Department of Agriculture—Forest Service (FS); U.S. Army Corps of Engineers; U.S. Environmental Protection Agency; U.S. Fish and Wildlife Service; West Virginia Department of Environmental Protection; and West Virginia Division of Natural Resources participated as cooperating agencies in the preparation of the final EIS. Cooperating agencies have jurisdiction by law or special expertise with respect to resources potentially affected by the proposals and participate in the NEPA analysis. Further, the FS may use the EIS when it considers amendments to Land and Resource Management Plans (LRMPs) and authorizations for special use permits (SUPs) for the proposed crossings of the Monongahela National Forest (MNF) and George Washington National Forest (GWNF). Although the cooperating agencies provide input to the conclusions and recommendations presented in the final EIS, each agency may present its own conclusions and recommendations in its respective record of decision or determination for the projects.

The final EIS addresses the potential environmental effects of the construction and operation of the following project facilities:

ACP would include:

• 519.7 miles of new 42- and 36-inch-diameter natural gas pipeline in West Virginia, Virginia, and North Carolina;

• 84.8 miles of 20- and 16-inch-diameter natural gas pipeline in Virginia and North Carolina;

• three new compressor stations in Lewis County, West Virginia; Buckingham County, Virginia; and Northampton County, North Carolina; and

• nine meter stations, along with pig ¹ launchers/receivers and mainline valves.

¹ A pipeline pig is a device used to clean or inspect a pipeline. A pig launcher/receiver is an aboveground facility where pigs are inserted or retrieved from the pipeline.

SHP would include:

• 37.5 miles of new 30-inch-diameter natural gas pipeline in Pennsylvania and West Virginia;

• modifications at four existing compressor stations in Westmoreland and Green Counties, Pennsylvania and Marshall and Wetzel Counties, West Virginia;

• abandonment of existing compressor units and associated facilities in Wetzel County, West Virginia; and

• one meter station, along with pig launchers/receivers and mainline valves.

Actions of the Forest Service

The FS's purpose and need for the proposed action is to respond to a special use application submitted by Atlantic on November 12, 2015, to allow the construction and operation of ACP on National Forest System (NFS) lands managed by the MNF and GWNF. If the FS decides to authorize the pipeline crossing of NFS lands and issue SUPs, the FS has determined that amendments to each national forest LRMP would be needed.

Pursuant to Title 40 Code of Federal Regulations Part 1506.3(c) (40 CFR 1506.3(c)), the FS may adopt and use this EIS developed by FERC to consider authorization for the construction and operation of the ACP crossing NFS lands. Further, the FS may use this EIS when it considers amendments to the LRMPs that would be required for the proposed crossings of the MNF and GWNF.

Forest Service's Draft Record of Decision

After issuance of the final EIS, the FS will release a single draft Record of Decision (ROD) for the authorization of a SUP to Atlantic for use of and to occupy NFS lands to construct, operate, maintain, and eventually decommission a natural gas pipeline that crosses lands administered by the MNF and GWNF; and for approval of the project-specific LRMP amendments associated with implementing the ACP on the MNF and the GWNF. The Regional Foresters (RFs) in the Eastern Region (for the MNF) and the Southern Region (for the GWNF) will be the responsible officials for the ROD. The RF for the Eastern Region has determined that two parts of the MNF LRMP, where four standards would be modified by a Forest Plan amendment (section 4.8 of the final EIS), meet the substantive requirements of the FS planning regulations (36 CFR 219) and could be implemented without impairing the long-term productivity of NFS lands. Similarly, the RF for the Southern Region has determined that six parts of the GWNF LRMP, where nine standards would be modified by a Forest Plan amendment, meet the substantive requirements of the FS planning regulations and could be implemented without impairing the long-term productivity on NFS lands. With the amended LRMPs, the ACP would be consistent with both Forests' LRMPs. This draft ROD will be based on a review of the environmental analysis disclosed in the final EIS; the project record; Atlantic's proposed Construction, Operation, and Maintenance Plan; comments received from the public, partners, and other agencies; and consideration of the 36 CFR 219 requirements for amending a Forest Plan.

The draft ROD is subject to the FS pre-decision objection process pursuant to the provisions available at 36 CFR part 218, subparts A and B (published in the Federal Register Vol. 78, No. 59 at 18481 [March 27, 2013]). Objections to the FS draft ROD on the authorization of the pipeline and the LRMP amendments must be filed within 45 calendar days from the publication date of the legal notice of the opportunity to object in The Milwaukee Journal/Sentinel and Atlanta Journal-Constitution, which are the newspapers of RODs made by the Eastern Region and Southern Region RFs. Notices will also be published in the Inter-Mountain and The Roanoke Times for local notification of the FS draft ROD. The legal notices will contain the details of the objection process. The FS must respond to all objections received before it makes a final decision.

A copy of the FS draft ROD and the legal notices for objections can be obtained by any of the following methods:

For the GWNF:

• Internet Web site: http://www.fs.usda.gov/gwj;

• Email: kovercash@fs.fed.us; or

• Regular mail: Karen Overcash, George Washington and Jefferson National Forests, 5162 Valleypointe Parkway, Roanoke, VA 24019; telephone: (540) 265-5100.

For the MNF:

• Internet Web site: http://www.fs.usda.gov/mnf;

• Email: karenlstevens@fs.fed.us; or

• Regular mail: Karen Stevens, Monongahela National Forest, 200 Sycamore Street, Elkins, WV 26241; telephone (304) 636-1800.

Distribution of the Final Environmental Impact Statement

The FERC staff mailed copies of the final EIS to federal, state, and local government representatives and agencies; elected officials; environmental and public interest groups; Native American tribes; potentially affected landowners and other interested individuals and groups; newspapers and libraries in the project area; and parties to this proceeding. Paper copy versions of this final EIS were mailed to those specifically requesting them; all others received a CD version. In addition, the final EIS is available for public viewing on the FERC's Web site (www.ferc.gov) using the eLibrary link. A limited number of copies of the final EIS are available for distribution and public inspection at: Federal Energy Regulatory Commission, Public Reference Room, 888 First Street NE., Room 2A, Washington, DC 20426 (202) 502-8371.

Additional information about the projects is available from the Commission's Office of External Affairs, at (866) 208-FERC, or on the FERC Web site (www.ferc.gov) using the eLibrary link. Click on the eLibrary link, click on General Search, and enter the docket number excluding the last three digits in the Docket Number field (i.e., CP15-554, CP15-555, or CP15-556). Be sure you have selected an appropriate date range. For assistance, please contact FERC Online Support at FERCOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp to subscribe.

Dated: July 21, 2017.
Kimberly D. Bose,
Secretary.

[FR Doc. 2017-15911 Filed 7-27-17; 8:45 am]

BILLING CODE 6717-01-P